SECURITIES AND EXCHANGE COMMISSION

Sunshine Act Meeting

Federal Register Citation of Previous Announcement: [To be published].

Status: Open Meetings.

Place: 100 F Street, NE., L-002, Auditorium, Washington, DC.

Announcement of Additional Meetings: Open Meetings.

The Commission has scheduled Open Meetings on Tuesday, June 19, 2007 at 9 a.m. and Wednesday, June 20, 2007 at 10 a.m., in the Auditorium, Room L-002.

The subject matter of the Open Meeting on Tuesday, June 19, 2007 will be:

The Commission will hold a roundtable discussion regarding rule 12b-1 under the Investment Company of 1940. The discussion will address: (i) The historical circumstances that led to the adoption of rule 12b-1, and the original intended purpose of the rule; (ii) the rule's current role in fund distribution practices; (iii) the costs and benefits of the current use of rule 12b-1; and (iv) the options for reform or rescission of rule 12b-1.

The subject matter of the Open Meeting on Wednesday, June 20, 2007 will be:

1. The Commission will consider whether to adopt amendments to expand its interactive data voluntary reporting program to permit mutual funds to submit as exhibits to their registration statements supplemental tagged information contained in the risk/return summary section of their prospectuses. The risk/return summary section contains key mutual fund information, including investment objectives and strategies, risks, and costs.

2. The Commission will consider whether to propose amendments to Form 20-F, Rules 3-10 and 4-01 of Regulation S-X, Forms F-4 and S-4, and Rule 701 under the Securities Act, to accept financial statements prepared in accordance with International Financial Reporting Standards as published by the International Accounting Standards Board without reconciliation to generally accepted accounting principles as used in the United States when contained in the filings of foreign private issuers with the Commission.

3. The Commission will consider whether to adopt amendments to the proxy rules under the Exchange Act to provide shareholders with the ability to choose the means by which they access proxy materials. Under the amendments, issuers and other soliciting persons will post their proxy materials on an Internet Web site and provide shareholders with a notice of the Internet availability of the materials. The issuer or soliciting person may choose to furnish paper copies of the proxy materials along with the notice. If the issuer or soliciting person chooses not to furnish a paper copy of the proxy materials along with the notice, a shareholder may request delivery of a copy at no charge to the shareholder.

At times, changes in Commission priorities require alterations in the scheduling of meeting items. For further information and to ascertain what, if any, matters have been added, deleted or postponed, please contact:

The Office of the Secretary at (202) 551-5400.

Dated: June 13, 2007.
Nancy M. Morris,
Secretary.

[FR Doc. E7-11666 Filed 6-15-07; 8:45 am]

BILLING CODE 8010-01-P